DEPARTMENT OF TRANSPORTATION

Federal Highway Administration

Environmental Impact Statement: Peoria, Tazewell, Woodford, Livingston, Marshall, Mclean, Putnam, Bureau and, La Salle

AGENCY: Federal Highway Administration (FHWA), DOT.

ACTION: Notice of intent.

SUMMARY: The FHWA is issuing this notice to advise the public that an Environmental Impact Statement (EIS) will not be prepared for the study of a proposed four-lane Heart of Illinois Highway in north central Illinois. Three feasible corridors identified by Illinois DOT as part of an earlier study were to be the focus of the EIS.

FOR FURTHER INFORMATION CONTACT:

Norman R. Stoner, P.E., Division Administrator, Federal Highway Administration, 3250 Executive Park Drive, Springfield, Illinois 62703, Phone: (217) 492-4600

Joseph E. Crowe, P.E., District Engineer, Illinois Department of Transportation, District 4, 401 Main Street, Peoria, Illinois 61602-1111, Telephone: (309) 671-3333

SUPPLEMENTARY INFORMATION: The FHWA, in cooperation with the Illinois Department of Transportation, issued a notice of intent to prepare an Environmental Impact Statement (EIS) on a proposal to develop a four-lane divided highway, known as the Heart of Illinois Highway, between Peoria and the interstate freeway system either north or east of Peoria. Three feasible corridors previously identified by Illinois DOT were to be examined as part of the EIS. The notice of intent to prepare an EIS for this project was published in the Federal Register on April 26, 2000 (Volume 65, Number 81).

Due to public opposition and lack of regional support, this project has been put on hold indefinitely. At this time there are no plans to prepare an EIS for this project.

Comments or questions concerning this notice should be directed to FHWA or the Illinois Department of Transportation at the addresses provided above.

(Catalog of Federal Domestic Assistance Program Number 20.205, Highway Planning and Construction. The regulations implementing Executive Order 12372 regarding intergovernmental consultation on Federal programs and activities apply to this program.)

Issued on July 18, 0002.
J.D. Stevenson,
Environmental Programs Engineer, Springfield, Illinois.

[FR Doc. 02-18667 Filed 7-23-02; 8:45 am]

BILLING CODE 4910-22-M